DEPARTMENT OF HEALTH AND HUMAN SERVICES

Office of the Secretary

Agency Information Collection Activities: Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Office for Civil Rights Complaint Forms—New—To enable the Office for Civil Rights to develop an automated option for complaint submittal, standardized complaint forms have been developed. The use of these forms will be voluntary; complaints may be submitted via other means such as letter or e-mail. The Office for Civil Rights (OCR) is responsible for enforcing Title VI of the Civil Rights Act of 1964, section 504 of the Rehabilitation Act of 1973, the Age Discrimination Act of 1975 and other statutes which prohibit discrimination by programs or entities that receive Federal financial assistance from HHS. Additionally, OCR has jurisdiction over Federally-conducted programs in cases involving disability-based discrimination under Section 504 of the Rehabilitation Act, over State and local public entities in cases involving disability-based discrimination under Title II of the Americans with Disabilities Act and, effective April 14, 2003, over certain health plans, health clearinghouses and health care providers with respect to enforcement of the standards for privacy of individually identifiable health information rule issued pursuant to the Health Insurance Portability and Accountability Act (HIPAA).

Under these authorities, individuals may file written complaints with OCR when they believe they have been discriminated against or if they believe that on or after April 14, 2003, their right to the privacy of protected health information has been violated. OCR has developed two complaint forms—one for civil rights discrimination complaints and one for complaints alleging violation of the privacy of protected health information.

Burden Information: Respondents—individuals; Average Time per Response: 45 minutes We estimate that there will be, on average, 2,200 civil rights complaints annually (1,650 burden hours annually), and approximately 21,710 complaints concerning medical privacy (16,283 burden hours annually).

Send comments via e-mail to Geerie.Jones@HHS.gov or mail to OS Reports Clearance Office, Room 503H, Humphrey Building, 200 Independence Avenue SW., Washington, DC, 20201. Written comments should be received within 60 days of this notice.

Dated: December 16, 2002.
Kerry Weems,
Deputy Assistant Secretary, Budget.

[FR Doc. 02-32631 Filed 12-26-02; 8:45 am]

BILLING CODE 4153-01-M